DEPARTMENT OF VETERANS AFFAIRS

Funding Opportunity Under Supportive Services for Veteran Families

AGENCY: Department of Veterans Affairs.

ACTION: Notice of funding availability.

SUMMARY: The Department of Veterans Affairs (VA) is announcing the availability of funds for grants under the SSVF Program. This NOFO contains information concerning the SSVF Program, the renewal and new applicant grant application processes, and the amount of funding available. Awards made for grants will fund operations beginning October 1, 2026.

DATES: Applications for grants must be received by the SSVF Program Office no later than 4:00 p.m. Eastern Time on Thursday, February 19, 2026. In the interest of fairness to all applicants, the date and time of this deadline are firm. VA will treat as ineligible any application received after the deadline. Applicants should submit materials early to avoid the risk of ineligibility, unanticipated delays, computer service outages, or other submission-related problems. On-time submission requires an Entity Identification Number (EIN) from the Internal Revenue Service (IRS), a Unique Entity Identifier (UEI) from SAM, and an active registration in SAM. For details, see the Before You Begin section.

FOR FURTHER INFORMATION CONTACT: Adrienne Nash Meléndez, Director, SSVF Program Office, ssvf@va.gov, (202) 461-0056. Information about the application can be downloaded from the SSVF website at https://www.va.gov/homeless/ssvf/index.html. Questions may be referred to the SSVF Program Office via email at ssvf@va.gov. For detailed SSVF Program information and requirements, see part 62 of title 38, Code of Federal Regulations (38 CFR part 62).

SUPPLEMENTARY INFORMATION:

I. Basic Information

Funding Opportunity Title: Supportive Services for Veteran Families (SSVF).

Announcement Type: New and renewal.

Funding Opportunity Number: VA-SSVF-2027.

Assistance Instrument: Grant.

Assistance Listing: 64.033, VA SSVF Program, the System for Award Management (SAM) at https://sam.gov/fal/296989a11e6f417a8225f634249b316d/view.

Funding Details: SSVF expects to award approximately $855 million via this NOFO with over 200 awards, with a range of $262,981 to $23,153,846 in awards.

Executive Summary: Section 604 of the Veterans' Mental Health and Other Care Improvements Act of 2008, Public Law 110-387 (codified at 38 U.S.C. 2044), authorized VA to develop the SSVF Program. Supportive services grants are awarded to selected private non-profit organizations and consumer cooperatives that will assist very low-income veteran families residing in or transitioning to permanent housing. Grantees will provide a range of supportive services to eligible veteran families that are designed to promote housing stability. SSVF provides case management and supportive services to prevent the imminent loss of a veteran's home or identify a new, more suitable housing situation for the individual and his or her family; or to rapidly re-house veterans and their families who are homeless and might remain homeless without this assistance.

Before You Begin: The following steps may take several weeks.

1. Entity Identifiers: If you believe your organization is a good candidate for this funding opportunity, retrieve your EIN, UEI, and SAM.gov (https://sam.gov/) registration now.

EIN: Your organization must have an EIN issued by the IRS.

UEI: Your organization must have a UEI issued by SAM.gov.

SAM.gov Registration: Your organization must have an active account with SAM.gov.

Be sure to answer Yes to the Financial Assistance Representation and Certification item. For a sample, see the SSVF website at https://www.va.gov/homeless/ssvf/index.html.

Prepare to provide these requirements immediately. The processes may take weeks to complete. Do not wait until you are ready to submit your application to start these processes. Incomplete required elements may prevent you from submitting your application on time. Applications submitted without an active UEI may be rejected at the threshold, meaning the application would be considered ineligible. For information about SAM, see also the Dates section, the Eligibility section, and the Submission Requirements and Deadlines section.

2. Registering in the Online Application System: For guidance on registering your organization in the online application system, see the How-To: Register a New Organization reference guide at https://www.va.gov/HOMELESS/docs/GPD/providers/UDPaaS_How-ToRegisterNewOrg_in_eGMS.pdf. Please note that while the guide indicates Grant and Per Diem Program, it is being used for all VA Homeless Program Office grant programs.

3. Reminders: Applications are due by 4:00 p.m. Eastern Time on the date stated in the DATES section. Keep this NOFO with you when completing the application. It includes supplementary guidance for completing the application.

II. Eligibility

A. Eligible Applicants: Under 38 U.S.C. 2044(f) eligible entity means a private nonprofit organization or a consumer cooperative. The term “consumer cooperative” has the meaning given such term under 12 U.S.C. 1701q. Only eligible entities, as defined in 38 U.S.C. 2044(f), can apply in response to this NOFO.

B. Additional Restrictions on Eligibility: There are no additional restrictions on eligibility.

C. Automatic Ineligibility: Any incomplete applications or applications received after the deadline would be automatically ineligible.

D. References or Links to Any Other Eligibility Restrictions or Disqualification Factors: There are no additional eligibility restrictions or disqualification factors.

E. Application Limits: There is no limit on the number of applications that can be submitted.

F. Cost Sharing or Matching: None.

III. Funding Opportunity Description

A. Program Description: Ending and preventing homelessness among veterans is a priority for VA. VA's Homeless Program Office constitutes the Nation's largest integrated network of homeless, housing, prevention, and rehabilitation services for veterans. These programs help veterans live self-sufficiently and independently. The principal goal of this NOFO is to seek entities that have the greatest capacity to end homelessness among veterans or sustain gains made in ending homelessness among veterans. VA established SSVF in 2011 to create public-private partnerships to rapidly re-house homeless veteran families and prevent homelessness for very low-income veterans at imminent risk due to a housing crisis.

B. Program Authority: The SSVF program is authorized under 38 U.S.C. 2044. VA implements the SSVF Program through regulations in 38 CFR part 62. 38 CFR part 62 contains definitions of terms used in the SSVF Program and this NOFO. Funds made available under this NOFO are subject to the requirements of 38 U.S.C. 2044 and 38 CFR part 62.

C. Funding Priorities: Priority will be given to grantees who can demonstrate the adoption of evidence-based practices in their application. Please note that the priorities for SSVF for fiscal year (FY) 2027 are different than in previous years. Based on the results of audit findings or performance concerns, VA may change grantees' previously awarded funds from Priority 2 to Priority 3 at renewal. The reprioritized grantees would then be required to submit a renewal application for the FY 2027 grant year. Funding priorities are as follows:

Priority 1. Under Priority 1, VA may award a renewal SSVF grant to existing grantees who received a grant award under Priority 1 during FY 2026 to expand services to rural communities. Existing grantees are SSVF grantees that have a Memorandum of Agreement (MOA) for operations through September 30, 2026. A Letter of Intent (LOI) will be required.

Priority 2. Under Priority 2, VA may award a renewal SSVF grant to existing grantees who have at least one of the following accreditations: 3-year accreditation from the Commission on Accreditation of Rehabilitation Facilities (CARF) in Employment and Community Services: Rapid Rehousing and Homeless Prevention standards, a 4-year accreditation in Housing Stabilization and Community Living Services from the Council on Accreditation (COA) or a 3-year accreditation in The Joint Commission's Behavioral Health Care: Housing Support Services Standards. Existing grantees are SSVF grantees that have a MOA for operations through September 30, 2026. Priority 2 applicants must demonstrate that accreditation is active at the date of submission, and accreditation must be maintained throughout the project period and/or funding cycle. A LOI will be required except in cases where a Priority 2 grantee is being reprioritized as a Priority 3 application where a renewal application is required.

Priority 3. Under Priority 3, existing SSVF grantees not included in Priorities 1 and 2 but who have annual awards and are seeking to renew their SSVF grants, may apply. Existing grantees are SSVF grantees that have a MOA for operations through September 30, 2026. A renewal application will be required. To be eligible for renewal of a supportive services grant, Priority 1, 2, and 3 applicants' program must be substantially the same as the program of the grantees' current grant award. Renewal applications can request funding that is equal to or less than their current annualized award. If sufficient funding is available, VA may provide an increase of the previous year's award. Any funding increase, if provided, will be based on previous grant funding utilization and enrollment. VA may also elect to decrease the grant award to an amount that is less than the previous fiscal year award. This will be done based on available funds as well as previous grant utilization and enrollment.

Priority 4. Under Priority 4, new applicants may apply for an SSVF grant. Priority 4 applicants will submit a new grant application.

D. Criteria:

1. VA will screen all applications to identify those that meet the threshold requirements described in 38 CFR 62.21.

2. VA will use the criteria described in 38 CFR 62.24 to score grantees applying for renewal of a supportive services grant.

3. VA will use the criteria described in 38 CFR 62.22 and 62.23 to score new applications for supportive services grants.

IV. Application Contents and Format

A. Intergovernmental Review: Executive Order (E.O.) 12372, Intergovernmental Review of Federal Programs, was issued to foster the intergovernmental partnership and strengthen federalism by relying on State and local processes for the coordination and review of proposed Federal financial assistance and direct Federal development. Generally, SSVF grants are not subject to E.O. 12372. Funded grantees are also required to comply with all applicable EOs.

B. Application Submission: Applicants must submit a complete electronic application in the electronic grants management system, following the instructions at https://www.va.gov/HOMELESS/ssvf/docs/FY26_NOFA_Training.pdf. The training provides funding opportunity, scoring criteria, award information, and requirements for submitting the application based on 2 CFR 200. In reference to section (b)(4)(ii) of Appendix I to 2 CFR part 200, the NOFO has no limitations on page numbers, file size, or the sequence of the application section, and therefore, this information is not addressed in the NOFO. Applications may not be hand-carried, emailed, mailed, or sent by facsimile (fax). Applications must be received by the SSVF Program Office no later than 4:00 p.m. Eastern Standard Time on the application deadline date of Thursday, February 19, 2026. Applications must arrive as a complete package. Materials arriving separately will not be included in the application package for consideration and may result in the application being rejected or not funded. See Program Description and Submissions Requirements and Deadlines for the maximum allowable grant amounts. Applicants are advised to refer to this NOFO when completing the online application.

This NOFO addresses resources that may be provided by grantees under 38 CFR 62.34 to assist veterans in obtaining permanent housing, in addition to implementing general requirements in, and resources otherwise provided under, 38 CFR part 62. Grantees will be allowed to provide up to the equivalent of two months' rent in addition to the security deposit to landlords under 38 CFR 62.34(c) as a resource for any lease of not less than one year when necessary to assist a veteran in remaining in or obtaining permanent housing. The additional funds may be used to facilitate the leasing of rental units to tenants with significant housing barriers. Landlords are less likely to lease to certain groups due to the risk of non-payment of rent or concerns about damage or disruption to their buildings. Tenants with significant housing barriers might include veterans with poor credit histories and criminal justice involvement that might otherwise disqualify them from obtaining a lease.

Veterans are sometimes reluctant to move into apartments that do not offer any of the comforts typically associated with living independently. The General Housing Stability Assistance, provided under 38 CFR 62.34(e), while offering some funds for bedding and kitchen supplies, leaves significant needs unaddressed. Therefore, grantees will also be allowed to provide up to $1,000 for veteran families to utilize miscellaneous move-in expenses under 38 CFR 62.34(g), to encourage them to obtain permanent housing with a lease of not less than one year. These funds are to be provided to assist veterans through accounts established at local merchants, such as grocery stores and retailers, in the enrolled veteran's name. These items could include, but are not limited to, food, furniture, household items, electronics (including televisions), or other items typically associated with independent living in permanent housing.

Respondents to this NOFO should base their proposals and applications on the current requirements of 2 CFR part 200 and 38 CFR part 62. As an electronic application submitted in the electronic grants management system, there are no formatting or size requirements. There is no limit on page numbers, formatting, or file name requirements. Paper copies are not accepted. The sequence of the application is structured in the grants management system. Letters of Support are addressed below. Instructions are included in the NOFO application instructions and technical assistance section. Proprietary information is not applicable.

Submission of an incorrect, incomplete, inconsistent, or unclear application package may result in a rejected application. Applicants are strongly encouraged to provide complete responses while also being clear and concise.

The SSVF Program Office must receive applications no later than 4:00 p.m. Eastern Time on the application deadline date stated in the DATES section.

Applications must arrive as a complete package. Materials arriving separately will not be included in the application package for consideration and may result in a rejected application.

No case-by-case exceptions to the deadline are allowed even in the case of illness, death, computer difficulties, staff turnover, or other reasons. In the extremely rare event that a group exception is provided, a public notice would be posted on the SSVF website at https://www.va.gov/homeless/ssvf/index.html or a modified funding opportunity would be posted on Grants.gov at https://www.grants.gov/ indicating the extended application submission deadline, if applicable.

Grantees will be expected to leverage supportive services grant funds to enhance the housing stability of very low-income veteran families who are occupying permanent housing. In doing so, grantees are required to establish relationships with local community resources. Therefore, agencies must work through coordinated partnerships built either through formal agreements or the informal working relationships commonly found among successful social service providers.

Through this NOFO, grantees can pay fees related to securing a lease of at least one year. In addition, as noted previously herein, veterans are sometimes reluctant to move into apartments that do not offer any of the comforts typically associated with living independently. Pursuant to this NOFO, grantees would be able to use funds for miscellaneous expenses associated with moving into a new unit. Moreover, nationally, the median average rental unit has increased in price by 28% since September 2023. Furthermore, service-connected veterans with high levels of disability may have incomes that exceed the current SSVF income threshold of 50% of the Area Median Income (AMI).

These veterans, some of the most vulnerable served by the VA, can be left ineligible for critically needed SSVF services. As a result, VA is invoking the provision in 38 U.S.C. 2044(f)(6)(C), and as provided in the definition of very low-income veteran family in 38 CFR 62.2, allowing VA to establish an income ceiling higher or lower than 50% of the AMI if VA determines that such variations are necessary because the area has unusually high or low construction costs, fair market rents (as determined under section 8 of the United States Housing Act of 1937 (42 U.S.C. 1437f) or family incomes. The AMI is one factor SSVF uses to establish eligibility. A higher income ceiling, as reflected by the AMI, will allow grantees to serve veterans who have endured significant increases in their housing cost burden, placing them at greater risk for homelessness. For the purposes of this NOFO, grantees will be able to serve veterans in their communities who have up to 80% of AMI. Aligning SSVF and the Department of Housing and Urban Development—VA Supportive Housing (HUD-VASH) eligibility will allow SSVF grantees' housing navigators to assist veterans eligible for HUD-VASH as necessary with identifying and obtaining permanent housing. Aligning SSVF and HUD-VASH eligibility will also improve the coordination of care and simplify and standardize eligibility determinations.

C. Coordination With Continuums of Care (CoC): Applicants are strongly encouraged to provide letters of support from the CoC in the location where they plan to deliver services, reflecting the applicant's engagement in the CoC's efforts to coordinate services. A CoC is a community planning entity that organizes and delivers housing and services to meet the needs of people who are experiencing homelessness as they move to stable housing and maximize housing stability. The CoC develops and implements plans to end homelessness and prevent a return to homelessness. CoC locations and contact information can be found at https://www.hudexchange.info/grantees/contacts/.

The CoC's letter of support should note if the applicant is providing assistance to the CoC in building local capacity to build Coordinated Entry Systems (CES) and end veteran and veteran family homelessness. The letter of support should also note the value and form of the applicant's assistance to the CoC and whether the support is direct funding or staffing. CES requires that providers operating within the CoC's geographic area must also work together to ensure the CoC's coordinated entry process allows for coordinated screening, assessment and referrals (HUD Notice: CPD-17-01). The CoC's letter of support also must describe the applicant's participation in the CoC's community planning efforts. In addition, any applicant proposing to serve a Native American Tribal area is strongly encouraged to provide a letter of support from the relevant Tribal Government.

The aim of the provision of supportive services is to assist very low-income veteran families residing in permanent housing to remain stably housed and to rapidly transition those not currently in permanent housing to stable housing. Assistance in obtaining or retaining permanent housing is a fundamental goal of the SSVF Program. SSVF emphasizes the placement of homeless veterans and veteran families who are described in 38 CFR 62.11(b) and (c).

D. Technical Assistance: Application instructions and information on obtaining technical assistance for preparing a grant application is available at https://www.va.gov/HOMELESS/ssvf/docs/FY26_NOFA_Training.pdf.

V. Submission Requirements and Deadlines

The applicant's request for funding must be consistent with the limitations and uses of supportive services grant funds set forth in 38 CFR part 62 and this NOFO. In accordance with 38 CFR part 62 and this NOFO, the following requirements apply to supportive services grants awarded under this NOFO:

1. Grantees may use a maximum of 10% of supportive services grant funds for administrative costs identified in 38 CFR 62.70(e).

2. Grantees must enroll a minimum of 60% of veteran households who are homeless and qualify under 38 CFR 62.11(b). (Note: Grantees may request a waiver to decrease this minimum number of homeless households).

3. Grantees are required to have available temporary financial assistance resources that can be paid directly to a third party on behalf of a participant and may be used for childcare, emergency housing assistance, transportation, rental assistance, utility-fee payment assistance, security deposits, utility deposits, moving costs, and general housing stability assistance (which includes emergency supplies) and as otherwise stated in 38 CFR 62.33 and 38 CFR 62.34.

4. Grantees are able to provide up to $1,000 supplemental assistance to every veteran household who obtains a lease of not less than 1 year to cover miscellaneous move-in expenses.

5. Grantees are able to pay landlords up to an amount equal to 2 months' rent for fees related to securing a lease at the time that the veteran or veteran families enters into a lease of at least one year. This incentive may be provided at lease-up or split up into multiple payments to be paid within the first 90 days of the veteran being housed.

VI. Application Review Information

Grantees are expected to demonstrate the adoption of evidence-based practices most likely to prevent and lead to reductions in homelessness. As part of their application, the applying organization's Executive Director must certify on behalf of the agency that they will actively participate in community planning efforts and operate the program in a manner consistent with core concepts found at https://www.va.gov/homeless/ssvf/ssvf-coreconcepts/. Housing is not contingent on compliance with mandated therapies or services; however, housing and supportive services are a core component of SSVF. Participants must comply with a standard lease agreement and be provided with the services and supports that are necessary to help them do so successfully. Case management supporting permanent housing should include tenant counseling, mediation with landlords, and outreach to landlords.

Grantees must develop plans that will ensure that veteran participants have the level of income and economic stability needed to remain in permanent housing after the conclusion of the SSVF intervention. Both employment and benefits assistance from VA and non-VA sources represent a significantly underutilized source of income stability for homeless veterans. Income is not a pre-condition for housing. Case management should include income maximization strategies to ensure households have access to benefits, employment and financial education and counseling. The complexity of program rules and the stigma some associate with getting help contributes to lack of use. For this reason, grantees are encouraged to consider strategies that can lead to prompt and successful access to employment and benefits that are essential to retaining housing. Grantees are expected to offer supportive services consistent with 38 CFR 62.30-62.34. SSVF grant funds are subject to the limitations described in this NOFO, 2 CFR part 200, and 38 CFR part 62.

1. As SSVF services are typically short to medium-term crisis intervention, grantees must develop plans with veterans and veteran families that will maximize income and supports to help veterans sustain permanent housing at the conclusion of the SSVF intervention. Grantees must ensure the availability of employment and vocational services either through providing the services directly or through formal or informal service agreements with other agencies. Agreements with the Homeless Veteran Reintegration Programs funded by the U.S. Department of Labor are strongly encouraged.

2. Per 38 CFR 62.33, grantees must assist participants in obtaining public benefits. Grantees must screen all participants for eligibility for a broad range of benefits such as the U.S. Department of Health and Human Services' (HHS) Temporary Assistance for Needy Families, Social Security, the U.S. Department of Agriculture's Supplemental Nutrition Assistance Program, the HHS Low-Income Home Energy Assistance Program, the Earned Income Tax Credit and local General Assistance programs. Grantees are expected to use the Supplemental Security Income/Social Security Disability Insurance Outreach, Access, and Recovery (SOAR) approach directly by training staff and providing the service or subcontracting services to an organization to provide SOAR services. In addition, where available, grantees should access information technology tools to support case managers in their efforts to link participants to benefits.

3. In accordance with 38 CFR 62.33(g), grantees must assist participants in obtaining and coordinating the provision of legal services relevant to issues that interfere with the participants' ability to obtain or retain permanent housing or supportive services. Grantees may provide legal services directly, through a formal referral agreement as contract services, or through referrals to another entity. (Note: Information regarding legal services provided may be protected from being released to the grantee or VA under attorney-client privilege, although the grantee must provide sufficient information to demonstrate the frequency and type of service delivered.) Support for legal services can include paying for court filing fees to assist a participant with issues that interfere with the participant's ability to obtain or retain permanent housing or supportive services, including issues that affect the participant's employability and financial security. Grantees (in addition to employees and members of grantees) may represent participants before VA with respect to a claim for VA benefits, but only if they are recognized for that purpose pursuant to 38 U.S.C. chapter 59. Further, the individual providing such representation must be accredited pursuant to 38 U.S.C. chapter 59.

4. Access to mental health and addiction services is a required case management service by SSVF; however, grantees cannot fund these services directly through the SSVF grant. Applicants must demonstrate their ability to promote rapid access to and engagement with mental health and addiction services for veterans and veteran families. In the past, grantees were able to add health care navigator responsibilities to existing positions as an alternative to hiring a Health Care Navigator. Beginning in FY 2026, the Health Care Navigator position is required. Grantees are required to hire at least one Health Care Navigator that will assist participants with accessing health and mental health services.

5. When serving participants who are residing in permanent housing, the defining question to ask is “Would this individual or family be homeless but for this assistance?” The grantee must use a VA-approved screening tool with criteria that target those most at risk of homelessness (https://www.va.gov/HOMELESS/ssvf/docs/SSVF_Homelessness_Prevention_Screener.pdf).

6. SSVF grantees are required to participate in local planning efforts designed to end veteran homelessness. Grantees may use grant funds to support SSVF involvement in activities such as community planning by sub-contracting with CoCs, when such funding is essential, to create, implement, or sustain the development of these data driven plans.

7. When other funds from community resources are not readily available to assist program participants, grantees may choose to use supportive services grants, to the extent described in this NOFO and in accordance with 38 CFR 62.33 and 62.34, to provide temporary financial assistance. Such assistance may, subject to the limitations in this NOFO and 38 CFR part 62, be paid directly to a third party on behalf of a participant for childcare; transportation; family emergency housing assistance; rental assistance; utility-fee payment assistance; security or utility deposits; moving costs; and general housing stability assistance as necessary.

8. SSVF requires grantees to offer Rapid Resolution (also known as diversion or problem-solving) services. These services engage veterans immediately before or after they become homeless and assist them to avoid continued homelessness. These efforts can reduce the trauma and expense associated with extended periods of homelessness, and the strain on the crisis response and affordable housing resources in the community. Through Rapid Resolution, the grantee and the veteran explore safe, alternative housing options immediately before or quickly after they become homeless. Rapid Resolution can identify an immediate safe place to stay within the veteran's network of family, friends or other social networks. All veterans requesting SSVF services should have a Rapid Resolution screening, and if the veteran or veteran family is not appropriate for Rapid Resolution, grantees should then assess the veteran or veteran family for other SSVF services. More information about Rapid Resolution can be found at https://www.va.gov/homeless/ssvf/specialized-services/.

Review and Selection Process: VA will review all supportive services grant applications in response to this NOFO. This section pertains to renewal applications only. A review will be conducted according to the following steps:

1. LOI applications that meet threshold requirements described in 38 CFR 62.21 will be offered funding.

2. Score all renewal applications that meet the threshold requirements described in 38 CFR 62.21.

3. Rank those renewal applications that score at least 75 cumulative points and receive at least one point under each of the categories identified for renewal applicants in 38 CFR 62.24. The applications will be ranked in order from highest to lowest scores in accordance with 38 CFR 62.25 for renewal applicants.

4. VA will use the ranked scores of renewal applications as the primary basis for selection. However, VA also will use the following considerations in 38 CFR 62.23(d) to select applicants for funding:

(a) Give preference to applications that provide or coordinate the provision of supportive services for very low-income veteran families transitioning from homelessness to permanent housing. Consistent with this preference, applicants are required to enroll no less than 60% of participants who are homeless as defined in 38 CFR 62.11(b) and (c). Rural communities are defined using the U.S. Department of Agriculture (USDA) definition of a rural area. Rural means: (1) open countryside; (2) rural towns (places with fewer than 5,000 people and 2,000 housing units); and (3) urban areas with populations ranging up to 50,000 people that are not part of larger labor market areas (metropolitan areas) (https://www.ers.usda.gov/topics/rural-economy-population/rural-classifications/). Other areas may seek waivers to this 60% requirement when grantees can demonstrate significant local progress toward eliminating homelessness in the target service area. Waiver requests must include data from authoritative sources such as point-in-time counts and by-name-lists indicating that a community has made enough progress on reducing homelessness that it can shift additional resources to prevention. Waiver requests must include an endorsement by the impacted CoC explicitly stating that a shift in resources from rapid rehousing to prevention will not result in an increase in homelessness. Grantees who are exempt or receive waivers to this 60% requirement must still enroll no less than 40% of all participants who are homeless as defined in 38 CFR 62.11(b) and (c).

(b) To the extent practicable, ensure that supportive services grants are equitably distributed across geographic regions, including rural communities, U.S. territories, and Tribal lands. This equitable distribution criteria will be used to ensure that SSVF resources are provided to those communities with the highest need as identified by VA's assessment of expected demand and available resources to meet that demand.

5. Subject to the considerations noted previously herein at paragraph B.4. VA will fund the highest-ranked applicants for which funding is available.

Risk Review: Prior to making a Federal grant award, the SSVF Program Office will review eligibility information for applicants and financial integrity information for applicants available in the Office of Management and Budget-designated databases per the Payment Integrity Information Act of 2019 (Pub. L. 116-117), the “Do Not Pay Initiative” (31 U.S.C. 3354), and 41 U.S.C. 2313.

The SSVF Program Office will review the responsibility and qualification records available in the non-public segment of SAM.gov (https://sam.gov/) prior to making a Federal award. The SSVF Program Office will conduct a risk assessment to evaluate the risks posed by applicants before issuing a Federal award. Items that will be considered include: financial stability, management systems and standards, history of performance (if applicable), audit reports and findings (if applicable), and the ability to effectively implement the grant requirements.

VII. Award Notices

Although subject to change, the SSVF Program Office expects to announce grant recipients for all applicants in the fourth quarter of FY 2027 with grants beginning October 1, 2026. Prior to executing a funding agreement, VA will contact the applicants, make known the amount of proposed funding, and verify that the applicant is still seeking funding. Once VA verifies that the applicant is still seeking funding, VA will execute an agreement and make payments to the grant recipient in accordance with 2 CFR part 200, 38 CFR part 62, and this NOFO. Pre-award costs are not eligible expenses. VA expects to notify unsuccessful applicants by email to the registered organizational contacts prior to October 1, 2026.

Administrative and National Policy Requirements: As cited in 38 CFR 62.38, SSVF grants cannot be used to fund ineligible activities.

Reporting: VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA Regional Coordinator assigned by the SSVF Program Office who will provide oversight and monitor supportive services provided to participants.

2. Grantees will be required to enter data into a Homeless Management Information System (HMIS) web-based software application. This data will consist of information on the participants served and types of supportive services provided by grantees. Grantees must treat the data for activities funded by the SSVF Program separate from that of activities funded by other programs. Grantees will be required to work with their HMIS Administrators to export client-level data for activities funded by the SSVF Program to VA on at least a monthly basis. The completeness, timeliness and quality of grantee uploads into HMIS will be factored into the evaluation of their grant performance.

Performance may include:

Goal 1: Over 80,000 veterans will be served by SSVF grantees nationally.

Goal 2: Over 20,000 children will be served by SSVF grantees nationally.

Goal 3: The percentage of exits to permanent housing (rapid re-housing) in SSVF will be 70% or higher.

Goal 4: The average time to house veterans experiencing literal homelessness (rapid re-housing) will be 90 days or less.

Goal 5: The rate of returns to homelessness for veterans experiencing literal homelessness (rapid re-housing) will be less than 5%.

Goal 6: At least 90% of veterans at imminent risk of homelessness served by SSVF will be prevented from homelessness.

3. VA will complete annual monitoring of each grantee. Monitoring will include the submittal of quarterly and annual financial and performance reports by the grantee. The grantee will be expected to demonstrate adherence to the grantee's proposed program as described in the grantee's application. All grantees are subject to audits conducted by VA or its representative. Pursuant to 38 CFR 62.80, when a grantee fails to comply with the terms, conditions, or standards of the supportive services grant, VA may, on 7-days' notice to the grantee, withhold further payment, suspend the supportive services grant, or prohibit the grantee from incurring additional obligations of supportive services grant funds, pending corrective action by the grantee or a decision to terminate. Additionally, grantees who are identified as not meeting performance standards pursuant to 38 CFR 62.80 are subject to withholding, suspension, de-obligation, termination, and recovery of funds by VA.

Grantees will be assessed based on their ability to meet critical performance measures. In addition to meeting program requirements defined by the regulations and applicable NOFO(s), grantees will be assessed on their ability to place participants into housing and the housing retention rates of participants served. Higher placement for homeless participants and higher housing retention rates for participants at risk of homelessness are expected for low-income veteran families when compared to extremely low-income veteran families with incomes below 30% of the area median income.

5. Grantees' performance will be assessed based on their consumer satisfaction scores. These scores include the participation rates and satisfaction results of the standardized survey offered to all participant households.

6. Organizations receiving Priority 1 or renewal awards that have had ongoing SSVF program operation for at least one year (as measured from the start of initial SSVF services until March 3, 2026) may be eligible for a three-year project period. Grantees meeting outcome goals defined by VA and in substantial compliance with their grant agreements (defined by meeting targets and having no outstanding corrective action plans) and who, in addition, are providing supportive services to veterans in tribal or rural communities or the U.S. territories or who have a three-year accreditation from either CARF in Employment and Community Services: Rapid Rehousing and Homeless Prevention standards, a four-year accreditation from COA in Supported Community Living Services, or a three-year accreditation in The Joint Commission's Behavioral Health Care: Housing Support Services Standards are eligible for a three-year project period. (Note: Multi-year project periods are contingent on funding availability.) If awarded a multiple year renewal, grantees may be eligible for funding increases as defined in NOFOs that correspond to years two and three of their renewal funding. At its discretion, VA may reduce three-year project periods to a one-year project period based on previous fiscal year performance concerns or most recent audit results.

VIII. Post-Award Requirements and Administration

The terms and conditions for this award will be outlined in the MOA. Applicants may review the general terms and conditions of award at https://www.va.gov/homeless/ssvf/grants-management/. In accepting a VA award, the grantee assumes legal, financial, administrative, and programmatic responsibility for administering the award. Grantees must comply with all applicable appropriations, laws, statutes, rules, regulations (e.g., 38 CFR part 50, 38 CFR part 62, 2 CFR part 200), NOFO requirements, Executive Orders governing assistance awards, statutory and national policy requirements (e.g., 2 CFR 200.300 and 41 U.S.C. 4712), and these terms and conditions which will be incorporated into this award. While VA may provide grantees with reminder notices regarding award requirements, the absence of receiving such notice will not relieve grantees of their responsibility to meet all applicable award requirements. Under the MOA, grantees must agree to provide what is outlined in the grant award and application along with any modifications that occur as a result of official changes approved by the VA SSVF Program Office. As noted in 38 CFR 62.51, grantees are to be paid in accordance with the timeframes and manner set forth in the NOFO. Pre-award costs are not eligible expenses.

IX. Other Information

VA is required to ensure compliance with all applicable statutes, regulations, and Executive Orders when evaluating and awarding grants. In accordance with Executive Order 14332, Improving Oversight of Federal Grantmaking, aside from the evaluation criteria published in this announcement, VA has discretion to remove from consideration any applicant VA deems does not demonstrably advance the President's or VA's priorities. VA will not fund activities that use racial preference for eligibility criteria or promote gender ideology. VA will not fund activities that promote or facilitate violations of immigration laws or are sources of waste, fraud, or abuse. VA will not tolerate activity or conduct by grant recipients that constitute acts of moral turpitude, are scandalous, or bring the recipient, the project funded by this grant, or VA into public disrepute, contempt, or ridicule.

Signing Authority

Richard F. Topping, Assistant Secretary for Management and Chief Financial Officer, approved this document on December 12, 2025, and authorized the undersigned to sign and submit the document to the Office of the Federal Register for publication electronically as an official document of the Department of Veterans Affairs.

Taylor N. Mattson,
Alternate Federal Register Liaison Officer, Department of Veterans Affairs.

[FR Doc. 2026-00009 Filed 1-5-26; 8:45 am]

BILLING CODE 8320-01-P